DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: Defense Federal Acquisition Regulation Supplement (DFARS) Part 230, Cost Accounting Standards Administration; DD Form 1861; OMB Number 0704-0267.

Type of Request: Extension.

Number of Respondents: 36,428.

Responses Per Respondent: 1.1.

Annual Responses: 42,058.

Average Burden Per Response: 10 hours.

Annual Burden Hours: 420,580.

Needs and Uses: This information collection includes requirements relating to DFARS Part 230, Cost Accounting Standards Administration, DFARS Subpart 230.70, Facilities Capital Employed for Facilities in Use, prescribes use of DD form 1861. Contacting officers use this form in computing profit objectives for negotiated contracts. The form enables contracting officers to differentiate profit objectives for various types of contractor assets (land, buildings, equipment).

Affected Public: Business or Other For-Profit; Not-For-Profit Institutions.

Frequency: On occasion.

Respondent's Obligation: Required to Obtain or Retain Benefits.

OMB Desk Officer: Mr. Lewis W. Oleinick.

Written comments and recommendations on the proposed information collection should be sent to Mr. Oleinick at the Office of Management and Budget, Desk Officer for DoD (Acquisition), Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: February 5, 2001.
Patricia L. Toppings,
Alternate OSD Federal Register Liaison Officer, Department of Defense.

[FR Doc. 01-3496 Filed 2-9-01; 8:45 am]

BILLING CODE 5001-10-M